NUCLEAR REGULATORY COMMISSION

Advisory Committee on Reactor Safeguards

In accordance with the purposes of Sections 29 and 182b of the Atomic Energy Act (42 U.S.C. 2039, 2232b), the Advisory Committee on Reactor Safeguards (ACRS) will hold a meeting on November 6-8, 2008, 11545 Rockville Pike, Rockville, Maryland. The date of this meeting was previously published in the Federal Register on Monday, October 22, 2007 (72 FR 59574).

Thursday, November 6, 2008, Conference Room T-2b3, Two White Flint North, Rockville, Maryland

8:30 a.m.-8:35 a.m.: Opening Remarks by the ACRS Chairman (Open)—The ACRS Chairman will make opening remarks regarding the conduct of the meeting.

8:35 a.m.-10 a.m.: Chapter 14 of the SER Associated with the Economic Simplified Boiling Water Reactor (ESBWR) Design Certification Application (Open/Closed)—The Committee will hear a briefing by and hold discussions with representatives of the NRC staff and General Electric-Hitachi Nuclear Energy (GEH) regarding Chapter 14, “Vertification Programs,” of the NRC staff's SER With Open Items associated with the ESBWR design certification application.

Note: A portion of this session may be closed to protect information that is proprietary to GEH or its contractors pursuant to 5 U.S.C. 552b(c)(4).

10:15 a.m.-12 p.m.: Position Paper on Incorporating the International Commission on Radiological Protection (ICRP) Recommendations into 10 CFR Parts 20 and 50 (Open)—The Committee will hear a briefing by and hold discussions with representatives of the NRC staff regarding their plans to develop options to revise NRC regulations and guidance in light of the new recommendations of the ICRP.

1 p.m.-2:30 p.m.: Status of License Renewal Activities (Open)—The Committee will hear a briefing by and hold discussions with representatives of the NRC staff regarding the status of the license renewal activities, Interim Staff Guidance, and implementation of the recommendations from the self-assessment.

2:45 p.m.-3:15 p.m.: Subcommittee Reports (Open)—The Committee will hear reports by the Chairman of the US-Advanced Pressurized Water Reactor (US-APWR) Subcommittee regarding Topical Reports associated with the US-APWR design, and the Chairman of the Plant license renewal Subcommittee regarding the license renewal application for the Vogtle Plant.

3:15 p.m.-7 p.m.: Preparation of ACRS Reports (Open)—The Committee will discuss proposed ACRS reports on matters discussed during this meeting.

Friday, November 7, 2008, Conference Room T-2b3, Two White Flint North, Rockville, Maryland

8:30 a.m.-8:35 a.m.: Opening Remarks by the ACRS Chairman (Open)—The ACRS Chairman will make opening remarks regarding the conduct of the meeting.

8:35 a.m.-10 a.m.: Current Issues Associated with Fire Protection and Related Matters (Open)—The Committee will hear a briefing by and hold discussions with representatives of the NRC staff regarding current fire protection issues, such as, the fire protection issues closure plan, Commission direction to the staff on fire protection issues, GAO recommendations and planned staff actions, and draft Regulatory Guides for implementing National Fire Protection Association (NFPA)—805 Standard, and related matters.

10:15 a.m.-11:15 a.m.: Proposed Changes to the Review Process for Subsequent Combined License Applications (SCOLAs) (Open)—The Committee will hear a briefing by and hold discussions with representatives of the NRC staff regarding the proposed changes to the SCOLA review process and related matters.

11:15 a.m.-12 p.m.: Future ACRS Activities/Report of the Planning and Procedures Subcommittee (Open/Closed)—The Committee will discuss the recommendations of the Planning and Procedures Subcommittee regarding items proposed for consideration by the Full Committee during future ACRS meetings and other matters related to the conduct of the ACRS business.

Note: A portion of this meeting may be closed pursuant to 5 U.S.C. 552b(c)(2) and (6) to discuss organizational and personnel matters that relate solely to internal personnel rules and practices of ACRS, and information the release of which would constitute a clearly unwarranted invasion of personal privacy.

1 p.m.-1:45 p.m.: Preparation for Meeting with the Commission (Open)—The Committee will discuss the topics for the meeting with the Commission: Overview, PWR Sump Performance Issues, Committee Views on Power Uprates for BWRs and Development of the TRACE Thermal-Hydraulic System Analysis Code.

2 p.m.-3:30 p.m.: Meeting with the Commission (Open)—The Committee will meet with the Commission to discuss the topics listed above.

4 p.m.-4:15 p.m.: Reconciliation of ACRS Comments and Recommendations (Open)—The Committee will discuss the responses from the NRC Executive Director for Operations to comments and recommendations included in recent ACRS reports and letters.

4:15 p.m.-7 p.m.: Preparation of ACRS Reports (Open)—The Committee will discuss proposed ACRS reports.

Saturday, November 8, 2008, Conference Room T-2b3, Two White Flint North, Rockville, Maryland

8:30 a.m.-12:30 p.m.: Preparation of ACRS Reports (Open)—The Committee will continue its discussion of proposed ACRS reports.

12:30 p.m.-1 p.m.: Miscellaneous (Open)—The Committee will discuss matters related to the conduct of Committee activities and specific issues that were not completed during previous meetings, as time and availability of information permit.

Procedures for the conduct of and participation in ACRS meetings were published in the Federal Register on October 6, 2008 (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close portions of this meeting noted above to discuss organizational and personnel matters that relate solely to the internal personnel rules and practices of the ACRS, and information the release of which would constitute a clearly unwarranted invasion of personal privacy pursuant to 5 U.S.C. 552b(c)(2) and (6). In addition, it may be necessary to close a portion of the meeting to protect information designated as proprietary by General Electric-Hitachi or its contractors pursuant to 5 U.S.C. 552b(c)(4).

Further information regarding topics to be discussed, whether the meeting has been canceled or rescheduled, as well as the Chairman's ruling on requests for the opportunity to present oral statements and the time allotted therefor can be obtained by contacting Ms. Yoira Diaz-Sanabria, Cognizant ACRS staff (301-415-8064), between 7:30 a.m. and 4:15 p.m. (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: October 21, 2008.
Annette L. Vietti-Cook,
Secretary of the Commission.

[FR Doc. E8-25567 Filed 10-24-08; 8:45 am]

BILLING CODE 7590-01-P